DEPARTMENT OF TRANSPORTATION

Pipeline and Hazardous Materials Safety Administration

International Standards on the Transport of Dangerous Goods; Public Meeting—Correction Notice

AGENCY: Pipeline and Hazardous Materials Safety Administration (PHMSA), Department of Transportation.

ACTION: Notice of public meetings: Correction.

SUMMARY: A notice published Friday, October 12, 2008 (FR Volume 73, Number 202, Pages 61930-61931) cited an incorrect date for PHMSA's public meeting in preparation for the 34th session of the United Nations Sub-Committee of Experts on the Transport of Dangerous Goods (UNSCOE TDG) during which PHMSA is also soliciting comments relative to potential new work items which may be considered for inclusion in its international agenda, and comments relative to a potential future rulemaking action regarding the use and applicability of international standards. The correct date for the UNSCOE TDG public meeting is Wednesday, November 19, 2008.

In addition, the notice cited an incorrect date relative to a separate public meeting in preparation for the 16th Session of the United Nations Sub-Committee of Experts on the Globally Harmonized System of Classification and Labelling of Chemicals (UNSCOE GHS). The correct date for the LTNSCOE GHS public meeting is Tuesday, November 18, 2008.

Essential information regarding these meetings is reproduced below. For more details on the issues to be considered at each meeting, please refer to the original notice (see http://edocket.accessgpp.gov08/df/E8-24718.pdf).

Corrected Information Regarding the UNSCOE TDG Meeting

Date: Wednesday, November 19, 2008; 8 a.m.-11 a.m.

Address: DOT Headquarters, West Building, Oklahoma City Conference Room, 1200 New Jersey Avenue, SE., Washington, DC 20590.

FOR FURTHER INFORMATION CONTACT: Mr. Duane Pfund, Director, Office of International Standards or Mr. Shane Kelley, International Transportation Specialist, Office of Hazardous Materials Safety, Department of Transportation, Washington, DC 20590; (202) 366-0656.

Corrected Information Regarding the UNSCOE GHS Meeting

Date: Tuesday, November 18, 2008; 10 a.m.-12 p.m.

Address: The UNSCOE GHS meeting will take place at the Environmental Protection Agency Potomac Yard One facility, Bellavista Conference Room (11100, 11th Floor), 2777 S. Crystal Drive, Arlington, VA 22202. To facilitate entry, please have a picture ID available and/or a U.S. Government building pass if applicable.

FOR FURTHER INFORMATION CONTACT: Kristen Hendricks, Field and External Affairs Division, Office of Pesticide Programs ((703) 308-0308, hendricks.kristen@epa.gov) or Dorothy Semazzi, Field and External Affairs Division, Office of Pesticide Programs ((703) 347-8540, semazzi.dorothy@epa.gov).

Theodore L. Willke,
Associate Administrator for Hazardous Materials Safety.

[FR Doc. E8-25482 Filed 10-24-08; 8:45 am]

BILLING CODE 4910-60-M